DEPARTMENT OF HEALTH AND HUMAN SERVICES

Administration for Community Living

[OMB Control No. 0985-0033]

Agency Information Collection Activities; Submission for OMB Review; Public Comment Request; of the State Councils on Developmental Disabilities

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the State Councils on Developmental Disabilities (Councils) OMB control number 0985-0033.

DATES: Submit written comments on the collection of information by March 3, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Sara Newell-Perez, phone: 202-795-7413 or E-Mail: Sara.Newell-Perez@acl.hhs.gov.

SUPPLEMENTARY INFORMATION: In compliance with 44 U.S.C. 3507, The Administration for Community Living (ACL) has submitted the following proposed collection of information to OMB for review and clearance. ACL is requesting approval to collect data for the State Councils on Developmental Disabilities (Councils) OMB control number 0985-0033.

The State Councils on Developmental Disabilities (Councils) are authorized by Subtitle B, of the Developmental Disabilities Assistance and Bill of Rights Act of 2000 (DD Act), as amended, [42 U.S.C. 15001 et seq.] (The DD Act). The DD Act requires them to submit an annual Program Performance Report. Section 125(c)(7) 42 U.S.C. 15025 states that: Beginning in fiscal year 2002, the Council shall annually prepare and transmit to the Secretary a report. Each report shall be in a form prescribed by the Secretary by regulation under section 104(b). Each report shall contain information about the progress made by the Council in achieving the goals of the Council as specified in section 124(c)(4)).

This is a revision of a currently approved information collection. While the DDC PPR remains the same and is consistent with performance measures previously approved in the State Plan template, the revisions include items for collecting information from Councils on their use of CDC funds to expand vaccine access and Public Health Workforce funds (PHWF) to strengthen the public health workforce.

The information collected from the DD Councils is used for multiple purposes:

(1) To develop and submit at least every two years a report to the President, Congress, and the National Council on Disability that describes the goals and outcomes of programs supported under the DD Act.

(2) As a tool for DD Councils to measure and report on progress in reaching goals and identify areas for which revisions are indicated;

(3) To enhance the Federal project officers' monitoring of DD Council progress in reaching projected outcomes;

(4) As a set of performance measures to comply with the GPRA Modernization Act of 2010 (GPRAMA) that will yield a national portrait of DD Council program impact; and

(5) For making funding and appropriation decisions about the DD Council program.

This IC revision adds items to ensure ACL is gathering the necessary and relevant demographic information in support of Executive Order on Advancing Racial Equity and Support for Underserved Communities Through the Federal Government and the Executive Order on Advancing Equality for Lesbian, Gay, Bisexual, Transgender, Queer, and Intersex Individuals. The National Academies of Science, Engineering, and Medicine (NASEM) recently published a report on Measuring Sex, Gender Identity, and Sexual Orientation for the National Institutes of Health. This report represents the culmination of years of work within HHS to develop sexual orientation and gender identity (SOGI) data collection methodology. This IC includes the recommended NASEM SOGI questions in the Council PPR.

Comments in Response to the 60-Day Federal Register Notice

A notice published in the Federal Register 87 FR 58356 on September 26, 2022. There were five comments received during the 60-day FRN. ACL's responses to these comments are included below.

Data collection form | Comment | ACL response
PPR (Commenters 1, 3, 4, 5) | Burden hours do not accurately reflect the work of the Council and should be increased | Burden calculation was based on the average data entry estimates shared by a sample size of Councils. While Councils range in staffing size, number of goals and activities they provide response to in the PPR. Past workgroups comprised of DD Council staff developed the existing PPR tool after much consensus building conversations and a thorough vetting process. ACL will continue to have conversations on areas for potential streamlining as part of our continuous quality improvement efforts. Areas where the reporting platform can assist in streamlining will be taken under consideration.
PPR (Commenters 1, 3, 4, 5) | Some of the performance measure calculations are too distinct to accurately collect information from sub-grantees. The performance measures, designed to standardize data collection, often seem to render it meaningless in that it is difficult to begin to assess whether another Council's initiative might be considered here. The policy environments in which Councils operate make it unclear whether the data collection has practical utility to the public. At present, there is no public-facing easily digestible summary of the data for public review. The current PPR has no practical utility beyond ACL staff | ACL continues to work with Councils to not only meet the federal data reporting requirement needs, be informed of program progress, but to also understand Council's use of the PPR as they share annual reports with citizens and stakeholders in their state/territory. T/TA guidance on ways to best collect and utilize performance measures data will be provided.
PPR (Commenter 1) | There should be a different strategy to collect and compile stories from DD Councils that would be more useful to ACL. Including it in PPR narrative reporting does not seem to address ongoing story needs | ACL will explore ways to gather grantee stories that meet the needs of the agency and outside stakeholders in a real-time, realistic way that does not increase overall burden.
PPR (Commenter 2) | The PPR only allows for narrative addressing ICF and HCBS updates. Councils should be able to import initial Comprehensive Review and Analysis on these issues from the 5-year state plan and any subsequent update from state plan PPRs during the five-year reporting cycle | ACL will explore expanding the narrative space available in the reporting platform to help Councils and ACL better measure Council projects and activities that impact systems change efforts across the five-year planning cycle.
PPR (Commenter 2) | There is often a wide discrepancy between the number of people with I/DD and their family members who participate in Council supported activities and the number of people with I/DD and their family members who respond to a survey impacting the validity of Outcome and Sub-Outcome Measures | Through T/TA efforts, Councils will be provided with additional strategies for capturing quantitative performance of sub-grantees, particularly in a virtual format, improving overall response rates of activity participants.
PPR (Commenter 5) | It is difficult to address how to collect data about SOGI without knowing what the federal data subcommittee is recommending. We also have state Data Privacy Laws that must be considered once we receive more information about implementation of these Executive Orders. State law may prohibit collection of certain data | ACL continues to review all Federal requirements for SOGI and will work to ensure T/TA is provided to clarify expectations and address concerns.

Estimated Program Burden: Based on the Council reporting experience, current data and reporting efforts constitute approximately 172 burden hours per grantee for a total of 9,632 annual burden hours. Councils worked with the technical assistance (TA) provider to establish burden reporting estimates for Centers for Disease Control (CDC) and Public Health Workforce (PHWF) reporting for a total of 4,874 hours. It should be noted that not all Councils chose to accept CDC and PHWF funds. The total addition of burden for the CDC and PHWF reporting totals 4,874 annual burden hours. The overall estimated total annual burden hours factoring in all three reports is: 14,506.

Respondent/data collection activity | Number of respondents | Responses per respondent | Hours per response | Annual burden hours
PPR | 56 | 1 | 172 | 9,632
CDC | 53 | 1 | 76 | 4,028
PHWF | 47 | 1 | 18 | 846
Total |  |  |  | 14,506

Dated: January 26, 2023.
Alison Barkoff,
Acting Administrator and Assistant Secretary for Aging.

[FR Doc. 2023-02016 Filed 1-31-23; 8:45 am]

BILLING CODE 4154-01-P